DEPARTMENT OF TREASURY

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Bernard J. Knight, Acting General Counsel (Department of Treasury).

2. Paul D. DeNard, IRS, Deputy Commissioner (Operations) (Large and Mid Size Business).

3. Faris R. Fink, IRS, Deputy Commissioner (Small Business/Self Employed).

This publication is required by 5 U.S.C. 4314(c)(4).

Dated: August 8, 2009.
William J. Wilkins,
Chief Counsel, Internal Revenue Service.

[FR Doc. E9-21726 Filed 9-8-09; 8:45 am]

BILLING CODE 4830-01-P